ENVIRONMENTAL PROTECTION AGENCY

[FRL-9189-3; Docket ID No. EPA-HQ-ORD-2010-0658]

Nanomaterial Case Study: Nanoscale Silver in Disinfectant Spray

AGENCY: Environmental Protection Agency (EPA).

ACTION: Notice of public comment period.

SUMMARY: EPA is announcing a 45-day public comment period for the draft document “Nanomaterial Case Study: Nanoscale Silver in Disinfectant Spray” (EPA/600/R-10/081). The document is being issued by the National Center for Environmental Assessment within EPA's Office of Research and Development. The draft is intended to serve as part of a process to help identify and prioritize scientific and technical information that could be used in conducting comprehensive environmental assessments of selected nanomaterials. It does not attempt to draw conclusions regarding potential environmental risks of nanoscale silver; rather, it aims to identify what is known and unknown about nanoscale silver to support future assessment efforts.

When finalizing the draft document, EPA intends to consider any public comments that EPA receives in accordance with this notice.

EPA is releasing this draft document solely for the purpose of pre-dissemination review under applicable information quality guidelines. This document has not been formally disseminated by EPA. It does not represent and should not be construed to represent any Agency policy or determination.

The draft document is available via the Internet on the NCEA home page under the Recent Additions and the Data and Publications menus at http://www.epa.gov/ncea.

DATES: The 45-day public comment period begins August 13, 2010, and ends September 27, 2010. Technical comments should be in writing and must be received by EPA by September 27, 2010.

ADDRESSES: The draft “Nanomaterial Case Study: Nanoscale Silver in Disinfectant Spray” is available primarily via the Internet on the National Center for Environmental Assessment's home page under the Recent Additions and the Data and Publications menus at http://www.epa.gov/ncea. A limited number of paper copies are available from Deborah Wales, NCEA-RTP, Research Triangle Park, NC 27711; phone: (919) 541-4731; facsimile: (919) 541-5078. If you are requesting a paper copy, please provide your name, your mailing address, and the document title, “Nanomaterial Case Study: Nanoscale Silver in Disinfectant Spray.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Dr. J. Michael Davis, NCEA; telephone: (919) 541-4162; facsimile: (919) 685-3331; or e-mail: Davis.Jmichael@epa.gov.

SUPPLEMENTARY INFORMATION:

I. Information About the Project/Document

Engineered nanoscale materials (nanomaterials) have been described as having at least one dimension between 1 and 100 nanometers (nm). They often have novel or unique properties that can arise from their small size. Like all technological developments, nanomaterials offer the potential for both benefits and risks. The assessment of such risks and benefits requires information, but given the nascent state of nanotechnology, much remains to be learned about the characteristics and effects of nanomaterials. The draft document “Nanomaterial Case Study: Nanoscale Silver in Disinfectant Spray” is intended to highlight what is known and unknown about nanoscale silver (nano-Ag) as part of a process to identify and prioritize information gaps relevant to assessing the broad environmental implications, including potential ecological as well as human health impacts, of nanomaterials.

The complex properties of various nanomaterials make it difficult to evaluate them in the abstract or with generalizations. Thus, this document focuses on a specific example of nano-Ag in disinfectant spray products. This “case study” does not represent a completed or even a preliminary assessment; rather, it uses an assessment framework known as comprehensive environmental assessment (CEA), which starts with the product life cycle but encompasses fate and transport processes in various environmental media, exposure-dose characterization, and ecological and health effects, as well as other direct and indirect ramifications of both primary and secondary substances or stressors associated with a nanomaterial. The CEA approach is both a framework and a process; the latter aspect employs a collective judgment process that will be the subject of a future announcement.

Previous EPA case studies focused on nanoscale titanium dioxide used in drinking water treatment and in topical sunscreen (U.S. EPA. Nanomaterial Case Studies: Nanoscale Titanium Dioxide in Water Treatment and in Topical Sunscreen (External Review Draft). U.S. Environmental Protection Agency, Washington, DC, EPA/600/R-09/057, 2009, available at: http://cfpub.epa.gov/ncea/cfm/recordisplay.cfm?deid=210206).

II. How To Submit Technical Comments to the Docket at http://www.regulations.gov

Submit your comments, identified by Docket ID No. EPA-HQ-ORD 2010-0658, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2010-0658. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: August 3, 2010.
Rebecca Clark,
Acting Director, National Center for Environmental Assessment.

[FR Doc. 2010-20083 Filed 8-12-10; 8:45 am]

BILLING CODE 6560-50-P